DEPARTMENT OF COMMERCE

Foreign-Trade Zones Board

[S-92-2015]

Foreign-Trade Zone 92—Gulfport, Mississippi, Application for Subzone Expansion, Subzone 92A, VT Halter Marine, Inc., Pascagoula, Mississippi

An application has been submitted to the Foreign-Trade Zones Board (the Board) by the Mississippi Coast Foreign Trade Zone, Inc., grantee of FTZ 92, requesting an additional site within Subzone 92A on behalf of VT Halter Marine, Inc., located in Pascagoula, Mississippi. The application was submitted pursuant to the provisions of the Foreign-Trade Zones Act, as amended (19 U.S.C. 81a-81u), and the regulations of the Board (15 CFR part 400). It was formally docketed on June 19, 2015.

Subzone 92A was approved on March 4, 1988 (Board Order 373, 53 FR 7956, 3/11/1988) and currently consists of four sites totaling 89 acres: Site 1 (18 acres)—Moss Point Marine Yard located on the east bank of the Pascagoula River, five miles north of the city of Pascagoula; Site 2 (22 acres)—Halter Marine Yard located on Bounds Lake, some four miles south of Site 1; Site 3 (19 acres)—Trinity Pascagoula Marine Yard located some 7 miles from Sites 1 & 2; and, Site 4 (30 acres)—Bernard Bayou Industrial Seaway located one mile north of Gulfport. The applicant is requesting authority to expand the subzone to include an additional site: Proposed Site 5 (6.25 acres)—2810 Louise Street, Pascagoula. The existing subzone and expanded portion would be subject to the existing activation limit of FTZ 92. No authorization for production activity has been requested at this time.

In accordance with the Board's regulations, Camille Evans of the FTZ Staff is designated examiner to review the application and make recommendations to the Executive Secretary.

Public comment is invited from interested parties. Submissions shall be addressed to the Board's Executive Secretary at the address below. The closing period for their receipt is August 4, 2015. Rebuttal comments in response to material submitted during the foregoing period may be submitted during the subsequent 15-day period to August 19, 2015.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

FOR FURTHER INFORMATION CONTACT: Camille Evans at Camille.Evans@trade.gov or (202) 482-2350.

Dated: June 19, 2015.
Elizabeth Whiteman,
Acting Executive Secretary.

[FR Doc. 2015-15635 Filed 6-24-15; 8:45 am]

BILLING CODE 3510-DS-P